DEPARTMENT OF ENERGY

Federal Energy Regulatory Commission

[Project No. 13343-000]

Hydro Energy Technologies, LLC; Notice of Preliminary Permit Applications Accepted for Filing and Soliciting Comment, Motions To Intervene, and Competing Applications

April 9, 2009.

On December 9, 2008, Hydro Energy Technologies, LLC filed an application, pursuant to section 4(f) of the Federal Power Act, proposing to study the feasibility of the Mosquito Creek Hydroelectric Project, to be located on Mosquito Creek, in Trumbull County, Ohio.

The proposed Mosquito Creek Hydroelectric Project would be located at: (1) the existing U.S. Army Corps of Engineers 5,650-foot-long, 47-foot-high Mosquito Creek Dam; and (2) an existing 8,900-acre reservoir with water surface elevation of 904 feet mean sea level.

The proposed project would consist of: (1) A new powerhouse containing one or more turbine/generators with a total installed capacity of 0.5 megawatts; (2) a new 50-foot-long, 60-inch-diameter penstock; (3) a new 400-foot-long transmission line; and (4) appurtenant facilities. The Mosquito Creek Project would have an estimated average annual generation of 1,682 megawatts-hours, which would be sold to a local utility.

Applicant Contact: Mr. Anthony J. Marra, Managing Partner, Hydro Energy Technologies, LLC, 31300 Solon Rd., Suite 12, Solon, OH 44139, (440) 498-1000.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13343) in the docket number field to access the document. For assistance, call toll-free 1-866-208-3372.

Kimberly D. Bose,
Secretary.

[FR Doc. E9-8804 Filed 4-16-09; 8:45 am]

BILLING CODE 6717-01-P